FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 002370NF.

Name: Westwind Maritime International, Inc.

Address: 1440 N. Mittel, Suite E, Wood Dale, IL 60191.

Date Revoked: June 1, 2013.

Reason: Voluntary Surrender of License.

License No.: 016914F.

Name: Air Sea Cargo Network, Inc.

Address: 7982 Capwell Drive, Oakland, CA 94521.

Date Revoked: June 14, 2013.

Reason: Failed to maintain a valid bond.

License No.: 021554F.

Name: Momentum Transportation—USA, Inc.

Address: 4901 Belfort Road, Suite 100, Jacksonville, FL 32256.

Date Revoked: July 25, 2013.

Reason: Voluntary Surrender of License.

License No.: 024209NF.

Name: Suncoast Ocean Lines, LLC.

Address: 3426 Hancock Bridge Parkway, Suite 305, North Fort Myers, FL 33903-7077.

Date Revoked: August 6, 2013.

Reason: Voluntary Surrender of License.

License No.: 024214NF.

Name: Greymar International Freight LLC.

Address: 8579 NW 72nd Street, Miami, FL 33166.

Date Revoked: July 8, 2013.

Reason: Voluntary Surrender of License.

James A. Nussbaumer,
Deputy Director, Bureau of Certification and Licensing.

[FR Doc. 2013-21033 Filed 8-28-13; 8:45 am]

BILLING CODE 6730-01-P